DEPARTMENT OF ENERGY

[FE Docket No. PP-231]

Notice of Floodplain and Wetlands Involvement; Northern States Power Company

AGENCY: Office of Fossil Energy, DOE.

ACTION: Notice of floodplain/wetlands involvement.

SUMMARY: Northern States Power Company (NSP) has applied for a Presidential permit to construct, operate, maintain, and connect electric transmission facilities across the U.S. border with Canada. The proposed action has the potential to impact on a floodplain/wetlands. In accordance with DOE regulations for compliance with floodplain/wetlands environmental review requirements (10 CFR Part 1022), a floodplain/wetlands assessment will be performed for this proposed action in a manner so as to avoid or minimize potential harm to or within potentially affected floodplain and wetlands.

DATES: Comments are due to the address below no later than August 14, 2001.

ADDRESSES: Written comments, questions about the proposed action, and requests to review the draft environmental assessment should be directed to: Steven Mintz, Office of Coal & Power Import/Export (FE-27), Office of Fossil Energy, U.S. Department of Energy, 1000 Independence Avenue, SW., Washington, DC 20585-0350; Fax: (202) 287-5736; e-mail: steven.mintz@hq.doe.gov.

FOR FURTHER INFORMATION CONTACT: Steven Mintz (Program Office) 202-586-9506 or Michael T. Skinker (Program Attorney) 202-586-6667.

For further information on general DOE floodplain and wetlands environmental review requirements contact: Carol M. Borgstrom, Director, Office of NEPA Policy and Assistance (EH-42), U.S. Department of Energy, 1000 Independence Avenue, SW., Washington, DC 20585-0119; Phone: 202-586-4600 or leave a message at 800-472-2756.

SUPPLEMENTARY INFORMATION: Under Executive Order 11988, Floodplain Management, and 10 CFR Part 1022, Compliance with Floodplain-Wetlands Environmental Review Requirements (http://tis-nt.eh.doe.gov/nepa/tools/regulate/nepa_reg/1022/1022.htm), notice is given that DOE is considering an application from NSP for a Presidential permit to construct, operate, maintain and connect electric transmission facilities across the U.S. border with Canada. NSP proposes to construct a 230,000-volt, three-phase, alternating current electric transmission line that would extend approximately 53 miles from a new substation to be built in Rugby, North Dakota, to the U.S.-Canadian border just north of Rolla, North Dakota. Notice of NSP's application for a Presidential permit appeared in the Federal Register on February 12, 2001 (66 FR 9826).

Before making a final decision on granting or denying a Presidential permit to NSP, DOE will prepare an environmental assessment (EA) to address the environmental impacts that would accrue from the proposed project and reasonable alternatives. The EA will be prepared in compliance with the National Environmental Policy Act of 1969 (NEPA) (42 U.S.C. 4321 et seq.). Because the proposed action has the potential to impact on a floodplain/wetlands, the EA will include a floodplain and wetlands assessment. DOE expects to have a draft of the EA available for public review in Summer 2001. Copies may be requested by telephone, facsimile, or e-mail from the address given above. A floodplain statement of findings will be included in any Finding of No Significant Impact that may be issued following completion of the EA.

Issued in Washington, DC, on July 25, 2001.
Anthony J. Como,
Deputy Director, Electric Power Regulation, Office of Coal & Power Import/Export, Office of Coal & Power Systems, Office of Fossil Energy.

[FR Doc. 01-18876 Filed 7-27-01; 8:45 am]

BILLING CODE 6450-01-P